DEPARTMENT OF TRANSPORTATION

National Highway Traffic Safety Administration

[Docket No. NHTSA 03-15651; Notice 2]

Federal Motor Vehicle Safety Standards; Lamps, Reflective Devices, and Associated Equipment

AGENCY: National Highway Traffic Safety Administration (NHTSA), Department of Transportation (DOT).

ACTION: Extension of comment period for a notice of draft interpretations.

SUMMARY: This document extends the comment period on a notice setting forth two draft interpretations concerning how our standard on lamps, reflective devices, and associated equipment applies to replacement equipment. In response to a petition from the Specialty Equipment Market Association (SEMA), the agency is granting the petition and extending the comment period 30 days, from September 2, 2003, to October 2, 2003. The reason for the extension is to give SEMA sufficient time to “craft coordinated responses on behalf of the many SEMA members that produce aftermarket lighting equipment.” SEMA requested that the comment period be extended by 30 days.

DATES: You should submit comments early enough to ensure that Docket Management receives them not later than October 2, 2003.

ADDRESSES: You may submit comments (identified by the docket number set forth above) by any of the following methods:

• Web Site: http://dms.dot.gov. Follow the instructions for submitting comments on the DOT electronic docket site. Please note, if you are submitting petitions electronically as a PDF (Adobe) file, we ask that the documents submitted be scanned using Optical Character Recognition (OCR) process, thus allowing the agency to search and copy certain portions of your submissions.¹

¹ Optical character recognition (OCR) is the process of converting an image of text, such as a scanned paper document or electronic fax file, into computer-editable text.

• Fax: 1-202-493-2251.

• Mail: Docket Management Facility, U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

Instructions: All submissions must include the agency name and docket number. For detailed instructions on submitting comments, see the Submission of Comments heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Taylor Vinson, Office of Chief Counsel, National Highway Traffic Safety Administration, 400 Seventh Street, SW., Washington, DC 20590, Telephone: (202) 366-5263, Fax: (202) 366-3820.

SUPPLEMENTARY INFORMATION: On July 17, 2003, the agency published a notice requesting comments on two draft interpretations in response to questions whether replacement lamps for the rear of a vehicle may have the reflex reflectors in a location that is inboard from that in the original lamps, and whether light source modifications are permissible for aftermarket lamps (68 FR 42454). The draft letters would be interpretations of Federal Motor Vehicle Safety Standard No. 108, Lamps, Reflective Devices, and Associated Equipment. We provided a comment period of 45 days, until the close of business on September 2, 2003.

On August 15, 2003, the Specialty Equipment Market Association (SEMA) petitioned the agency to extend the comment period for an additional 30 days. SEMA explained that it had been “attempting to craft coordinated responses on behalf of the many AEMA members that produce aftermarket lighting equipment.” This undertaking “has been complicated by the fact that most of the comment period falls in August, a time when many of these SEMA members are away from their businesses.” In addition, the comment deadline “falls on September 2nd, the day after Labor Day.” SEMA considers the interpretations to be of great importance “to the ability of SEMA members to manufacture, market and sell replacement lighting equipment in the U.S.”

After considering the arguments raised by SEMA, we have decided that it is in the public interest to extend the comment period for 30 days, to October 2, 2003, pursuant to the petitioner's request.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: 49 U.S.C. 30111; 49 CFR 501.8(d)(5).

Issued on August 21, 2003.
Jacqueline Glassman,
Chief Counsel.

[FR Doc. 03-21840 Filed 8-26-03; 8:45 am]

BILLING CODE 4910-59-P